DEPARTMENT OF LABOR

Mine Safety and Health Administration

[Docket Number MSHA-2013-0037]

Criteria to Certify Coal Mine Rescue Teams

AGENCY: Mine Safety and Health Administration, Labor.

ACTION: Notice.

SUMMARY: This notice informs the public that the Mine Safety and Health Administration (MSHA) has updated the coal mine rescue team certification criteria. The Mine Improvement and New Emergency Response (MINER) Act of 2006 requires MSHA to update these criteria every five years. One of the criteria for a mine operator to certify the qualifications of a coal mine rescue team is that team members are properly trained annually. MSHA has updated the prescribed instruction guides for annual training of coal mine rescue teams to provide improved advanced mine rescue training by including more hands-on skills training to enhance team performance when responding to an actual mine emergency.

FOR FURTHER INFORMATION CONTACT: George F. Triebsch, Director, Office of Standards, Regulations, and Variances, MSHA, at triebsch.george@dol.gov (email); 202-693-9440 (voice); or 202-693-9441 (facsimile). These are not toll-free numbers.

SUPPLEMENTARY INFORMATION:

I. Background

Under title 30 of the Code of Federal Regulations (30 CFR) part 49, underground coal mine operators must designate at least two mine rescue teams to provide mine rescue coverage at an underground coal mine at all times when miners are underground. Underground coal mine operators must annually certify the qualifications of these designated teams. MSHA provides the criteria for certifying the qualifications of coal mine rescue teams under 30 CFR 49.50.

Initial criteria to certify the qualifications of coal mine rescue teams under 30 CFR 49.50 are: (1) Team is available at all times when miners are underground; (2) Except where alternative compliance is permitted, team has five members and one alternate; (3) Members have experience working in an underground coal mine; (4) Team is available within 1-hour ground travel time from the mine rescue station to the mine; (5) Appropriate mine rescue equipment is provided, inspected, tested, and maintained; (6) Members are physically fit; and (7) Members have completed initial training.

The annual criteria to maintain mine rescue team certification under 30 CFR 49.50 are: (1) Members are properly trained annually; (2) Members are familiar with the operations of each covered mine; (3) Members participate in at least two local mine rescue contests annually; (4) Members participate in mine rescue training at each covered mine; and (5) Members are knowledgeable about the operations and ventilation of each covered mine.

The MINER Act requires MSHA to update the criteria to certify the qualifications of mine rescue teams every five years. The revised instruction guides do not change the certification criteria listed above, but rather update the prescribed training that team members need annually to be properly trained. The specific annual training requirements are listed at 30 CFR 49.18(b).

II. Revision of Instruction Guides

The annual training requirements for coal mine rescue teams include § 49.18(b)(4), which requires advanced mine rescue training and procedures as prescribed by MSHA's Office of Educational Policy and Development (EPD). Under this requirement, EPD currently prescribes Instruction Guide IG7, “Advanced Mine Rescue Training—Coal Mines,” which includes best practices, handouts, visuals, and text materials for the classroom and activities or exercises for practice using equipment and developing teamwork.

To update this prescribed training, the existing lessons and exercises from the current Instruction Guide IG7 were reorganized and Instruction Guide IG7a, containing new practical exercises, was added. The materials for classroom training are retained as Instruction Guide IG7, “Advanced Mine Rescue Training—Coal Mines,” and the practice exercises are moved to new Instruction Guide IG7a, “Advanced Skills Training—Activities for Coal Mine Rescue Teams.” Instruction Guide IG7a also contains new exercises to assure practice on skills a team would need in a mine emergency, as well as expectations training.

MSHA published a notice in the Federal Register (78 FR 58567) announcing the availability of the revised instruction guides on the Agency's Web site and soliciting comments to assure that the revised instruction guides would improve the quality and effectiveness of instruction and skills training for coal mine rescue teams. The comment period closed on November 25, 2013.

MSHA received five comments from industry, state government, academia, and a mine rescue association. One commenter stated that IG7a provides a good basic format for mine rescue trainers to quickly develop training exercises for their mine rescue teams. This commenter stated that the expectations training in IG7a was important and recommended that MSHA add an expectation that team members can expect delays in movement and exploration in an actual emergency. MSHA recognizes that it is important for team members to expect delays when exploring in an actual emergency due to the time needed to coordinate their movements with the Command Center. MSHA added this expectation to IG7a.

A commenter stated that IG7a should include an exercise in the actual construction of ventilation controls. There are several different types of ventilation controls used in underground coal mining and they vary from mine to mine. In MSHA's experience, training in ventilation controls, already included in IG7, appropriately addresses how to construct a variety of ventilation controls, including temporary and permanent stoppings, air locks, and line brattice.

Another commenter stated that teams would be better trained if the training consisted of actually putting out a fire, being exposed to heat and dense smoke, and spending more time preparing for an actual emergency. MSHA believes that the exercises prescribed in IG7a will provide appropriate training in smoke, fire hose management, and firefighting.

A commenter stated that MSHA should revise IG7a to include a statement that all skills covered in Instruction Guide IG7a can be achieved by participating in a skills contest. Another commenter stated that its teams perform the exercises prescribed in IG7a through participation in a skills contest. MSHA does not require participation in a skills contest. MSHA believes, however, that skills contests provide a valuable training experience for mine rescue teams and encourages teams to participate in these contests. Participation in a skills contest can satisfy the training in IG7a, as long as an exercise is included for each skill area prescribed in IG7a.

A commenter stated that MSHA should revise IG7a to include a smoke tube exercise. This commenter also provided recommendations for additional materials that MSHA should list as needed for several exercises. MSHA revised IG7a to include a smoke tube exercise in which tubes filled with a visible chemical smoke are opened and the escaping smoke is carried away by any air flow. In the Agency's experience, smoke tube training will help prepare teams to determine the ventilation direction and measure speed in areas with low air velocity, which may be encountered in a mine emergency. Where appropriate, MSHA also revised the list of materials needed.

Another commenter stated that the fire hose management and firefighting exercises contained in IG7a are not practical for anthracite mine rescue teams because: (1) Of the coal seam's extreme pitch; (2) anthracite coal requires more heat to combust; (3) anthracite dust does not propagate an explosion; and (4) there are no anthracite mines with electrical face equipment.

MSHA recognizes that underground anthracite mines are unique. Revised IG7a does not include fire hose management or firefighting exercises for mine rescue teams for anthracite coal mines that have no electrical equipment at the face or working section. In MSHA's experience, a mine rescue team would use fire extinguishers, rather than hoses, to fight a fire in an underground anthracite mine due to the pitch of the entry. MSHA believes that appropriate training in the use of fire extinguishers is already provided through the Emergency Response Plans at anthracite mines.

Some commenters stated that the existing requirement that teams train at covered mines two times per year be revised to require training once per year. This requirement was a provision of the MINER Act and is outside the scope of this notice. Another commenter suggested that MSHA revise the guidelines for Mine Emergency Response Drills (MERD) to allow for rescue training in the MERD format without three total teams and a declared winner. Under the existing standard, a local mine rescue contest can be a MERD exercise or a practical simulation exercise. If a mine operator choses a MERD exercise to satisfy the requirements for a local mine rescue contest, the MERD exercise must have three teams and a winner.

In MSHA's experience, revised Instruction Guide IG7 and new Instruction Guide IG7a are resources that will assist coal mine rescue team trainers in providing team members with the necessary knowledge and skills to respond effectively in the event of an emergency. Changes in mine rescue team technologies and practices may necessitate changes in advance mine rescue skills training. When these changes become available, MSHA will provide the public an opportunity to comment.

Beginning in 2014, coal mine rescue teams must complete advanced skills training prescribed in IG7 and IG7a to be properly trained under the criteria for certification of coal mine rescue teams in 30 CFR 49.50.

The comments and the final instruction guides for advanced mine rescue training of coal mine rescue teams are posted on www.regulations.gov (docket number MSHA-2013-0037) and on MSHA's Web site at http://www.msha.gov/MineRescue/Training/TeamTraining.asp.

Authority: 30 U.S.C. 811, 825(e).

Dated: December 23, 2013.
Joseph A. Main,
Assistant Secretary of Labor for Mine Safety and Health.

[FR Doc. 2013-31033 Filed 12-26-13; 8:45 am]

BILLING CODE 4510-43-P